DEPARTMENT OF DEFENSE

Office of the Secretary

[No. DoD-2007-OS-0037]

Submission for OMB Review; Comment Request

ACTION: Notice.

The Department of Defense has submitted to OMB for clearance, the following proposal for collection of information under the provisions of the Paperwork Reduction Act (44 U.S.C. Chapter 35).

DATES: Consideration will be given to all comments received by September 27, 2007.

Title, Associated Form, and OMB Number: Request for Information Regarding Deceased Debtor; DD Form 2840; OMB Control Number 0730-0015.

Type of Request: Extension.

Number of Respondents: 2,000.

Responses per Respondent: 1.

Annual Responses: 2,000.

Average Burden per Response: 5 minutes.

Annual Burden Hours: 167.

Needs and Uses: This information is used by the Defense Finance and Accounting Service, Directorate of Debt and Claims Management to contact a probate court to determine if a deceased debtor has left an estate. According to DoD 7000.14-R, Volume 5, Chapter 29, action must be taken to recover debts owed DoD by individuals, including those no longer drawing a salary from the United States. If an individual dies prior to liquidating an indebtedness, it may be possible to collect all or part of the indebtedness from the estate.

Affected Public: State, local or tribal government.

Frequency: On occasion.

Respondent's Obligation: Voluntary.

OMB Desk Officer: Ms. Hillary Jaffe.

Written comments and recommendations on the proposed information collection should be sent to Ms. Jaffe at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Ms. Patricia Toppings.

Written requests for copies of the information collection proposal should be sent to Ms. Toppings at WHS/ESD/Information Management Division, 1777 North Kent Street, RPN, Suite 11000, Arlington, VA 22209-2133.

Dated: August 22, 2007.
Patricia L. Toppings,
Alternate OSD Federal Register Liaison Officer, Department of Defense.

[FR Doc. 07-4211 Filed 8-27-07; 8:45 am]

BILLING CODE 5001-06-M